DEPARTMENT OF AGRICULTURE

Forest Service

Alpine County Resource Advisory Committee (RAC)

AGENCY: Forest Service, USDA.

ACTION: Notice of meeting.

SUMMARY: The Alpine County Resource Advisory Committee (RAC) will hold its second meeting.

DATES: The meeting will be held on June 17, 2009, and will begin at 6 p.m.

The meeting will be held in Alpine County at the Alpine Early Learning Center, 100 Foothill Road, Markleeville, CA 96120.

FOR FURTHER INFORMATION CONTACT: Marnie Bonesteel, RAC Coordinator, USDA, Humboldt-Toiyabe National Forest, Carson Ranger District, 1536 S. Carson Street, Carson City, NV 89701 (775) 884-8140; e-mail mbonesteel@fs.fed.us.

SUPPLEMENTARY INFORMATION: Agenda items to be covered include: (1) Discuss and vote on committee bylaws and elect a chairperson (2) Review Title H project submittals (3) Public Comment. The meeting is open to the public. Public input opportunity will be provided and individuals will have the opportunity to address the Committee at that time.

Dated: May 22, 2009.
Sally Champion,
Acting District Ranger.

[FR Doc. E9-12886 Filed 6-3-09; 8:45 am]

BILLING CODE 3410-11-M